DEPARTMENT OF COMMERCE

National Institute of Standards and Technology

Open Meeting of the Information Security and Privacy Advisory Board

AGENCY: National Institute of Standards and Technology, Commerce.

ACTION: Notice.

SUMMARY: The Information Security and Privacy Advisory Board (ISPAB) will meet Wednesday, June 10, 2015, from 8:30 a.m. until 5:00 p.m. Eastern Time, Thursday, June 11 2015, from 8:30 a.m. until 5:00 p.m. Eastern Time, and Friday, June 12, 2015, from 8:30 a.m. until 12:00 p.m. Eastern Time. All sessions will be open to the public.

DATES: The meeting will be held on Wednesday, June 10, 2015, from 8:30 a.m. until 5:00 p.m. Eastern Time, Thursday, June 11, 2015, from 8:30 a.m. until 5:00 p.m. Eastern Time, and Friday, June 12, 2015, from 8:30 a.m. until 12:00 p.m. Eastern Time.

ADDRESSES: The meeting will take place at the National Cybersecurity Center of Excellence (NCCoE), 9600 Gudelsky Drive, Room B-105, Rockville, Maryland 20850.

FOR FURTHER INFORMATION CONTACT: Annie Sokol, Information Technology Laboratory, National Institute of Standards and Technology, 100 Bureau Drive, Stop 8930, Gaithersburg, MD 20899-8930, telephone: (301) 975-2006, or by email at: annie.sokol@nist.gov.

SUPPLEMENTARY INFORMATION: Pursuant to the Federal Advisory Committee Act, as amended, 5 U.S.C. App., notice is hereby given that the Information Security and Privacy Advisory Board (ISPAB) will meet Wednesday, June 10, 2015, from 8:30 a.m. until 5:00 p.m. Eastern Time, Thursday, June 11, 2015, from 8:30 a.m. until 5:00 p.m. Eastern Time, and Friday, June 12, 2015, from 8:30 a.m. until 12:00 p.m. Eastern Time. All sessions will be open to the public. The ISPAB is authorized by 15 U.S.C. 278g-4, as amended, and advises the National Institute of Standards and Technology (NIST), and the Director of the Office of Management and Budget (OMB) on information security and privacy issues pertaining to Federal government information systems, including thorough review of proposed standards and guidelines developed by NIST. Details regarding the ISPAB's activities are available at http://csrc.nist.gov/groups/SMA/ispab/index.html.

The agenda is expected to include the following items:

—Presentation from National Cybersecurity Center of Excellence (NCCoE),

—Updates from Deputy Undersecretary for Cybersecurity and Communications, U.S. Department of Homeland Security,

—Updates on OMB Circular No. A-130 Revised, Management of Federal Information Resources,

—Updates from Deputy Chief Technology Officer, the White House,

—Discussion on data security and privacy (auto-manufacturer communication and usability) with National Highway Safety Administration (NHTSA),

—Presentation from Federal Bureau of Investigation (FBI) on information collection,

—Presentation on Quantum Cybersecurity,

—Discussion on Data Breach and Supply Chain Security,

—Discussion on Executive Order 13694—Blocking the Property of Certain Persons Engaging in Significant Malicious Cyber-enabled Activities,

—Discussion on Executive Order 13691—Promoting Private Sector Cybersecurity Information Sharing,

—Panel presentation—Inspector General (IG) Reporting on Federal Information Security Management Act (FISMA),

—Presentation on the Communication Security, Reliability and Interoperability Council (CSRIC) Report on the Cybersecurity Framework, and

—Updates on NIST Computer Security Division.

Note that agenda items may change without notice. The final agenda will be posted on the Web site indicated above. Seating will be available for the public and media. Although pre-registration is not required to attend this meeting, all attendees must sign-in to obtain site access.

Public Participation: The ISPAB agenda will include a period of time, not to exceed thirty minutes, for oral comments from the public (Friday, June 12, 2015, between 10:00 a.m. and 10:30 a.m.). Speakers will be selected on a first-come, first-served basis. Each speaker will be limited to five minutes. Questions from the public will not be considered during this period. Members of the public who are interested in speaking are requested to contact Annie Sokol at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Kevin Kimball,
Chief of Staff.

[FR Doc. 2015-12424 Filed 5-21-15; 8:45 am]

BILLING CODE 3510-13-P